DEPARTMENT OF ENERGY

Preferred Alternative for Certain Quantities of Plutonium Evaluated in the Final Surplus Plutonium Disposition Supplemental Environmental Impact Statement

AGENCY: National Nuclear Security Administration, U.S. Department of Energy.

ACTION: Notice of Preferred Alternative.

SUMMARY: The U.S. Department of Energy/National Nuclear Security Administration (DOE/NNSA) is announcing its Preferred Alternative for the disposition of certain quantities of surplus plutonium evaluated in the Final Surplus Plutonium Disposition Supplemental Environmental Impact Statement (Final SPD Supplemental EIS) (DOE/EIS-0283-S2, April 2015). Among the potential actions considered in the Final SPD Supplemental EIS, DOE/NNSA analyzed the potential environmental impacts for the disposition of 13.1 metric tons (14.4 tons) of surplus plutonium for which a disposition path is not assigned, including 7.1 metric tons (7.8 tons) of plutonium from pits that were declared excess to national defense needs and 6 metric tons (6.6 tons) of surplus non-pit plutonium. With regard to the 6 metric tons (MT) of surplus non-pit plutonium, DOE/NNSA's Preferred Alternative is to prepare this plutonium for eventual disposal at the Waste Isolation Pilot Plant (WIPP) in Carlsbad, New Mexico, a geologic repository for disposal of Transuranic (TRU) ¹ waste generated by atomic energy defense activities. DOE/NNSA may issue a Record of Decision (ROD), containing its decision(s) for disposition of this quantity of material, no sooner than 30 days from the date of publication of this notice in the Federal Register.

¹ Transuranic (TRU) waste is waste that contains alpha particle-emitting radionuclides with atomic numbers greater than that of uranium (92) and half-lives greater than 20 years in concentrations greater than 100 nanocuries per gram of waste.

ADDRESSES: A copy of the Final SPD Supplemental EIS may be obtained by contacting: Ms. Sachiko McAlhany, NEPA Document Manager, SPD Supplemental EIS at spdsupplementaleis@leidos.com. The Final SPD Supplemental EIS and its Notice of Availability can be viewed at http://nnsa.energy.gov/nepa/spdsupplementaleis or on the DOE NEPA Web site at http://energy.gov/nepa/nepa-documents.

FOR FURTHER INFORMATION CONTACT: For further information on the Final SPD Supplemental EIS, contact Ms. Sachiko McAlhany as listed in ADDRESSES. For general information regarding the DOE NEPA process, contact: Ms. Carol M. Borgstrom, Director, Office of NEPA Policy and Compliance, U.S. Department of Energy, 1000 Independence Avenue SW., Washington, DC 20585-0103, Telephone 202-586-4600 or leave a message at 1-800-472-2756, Email: ask NEPA@hq.doe.gov.

SUPPLEMENTARY INFORMATION:

Background

In the Final Surplus Plutonium Disposition Supplemental Environmental Impact Statement (DOE/EIS-0283-S2, April 2015), DOE/NNSA analyzed the potential environmental impacts for the No Action Alternative and four action alternatives for disposition of 13.1 metric tons (MT) of surplus plutonium, of which the 6 MT of non-pit plutonium is a subset (Final SPD Supplemental EIS Summary, figure S-7). The four action alternatives that are applicable to the surplus non-pit plutonium are described in section S.9.2 of the Final SPD Supplemental EIS.

The scope of this notice pertains only to the 6 MT of surplus non-pit plutonium for which a disposition path is not assigned. DOE/NNSA has no Preferred Alternative, at this time, for other potential actions considered in the Final SPD Supplemental EIS. Specifically, DOE/NNSA has no Preferred Alternative for the disposition of the remaining 7.1 MT of surplus plutonium from pits, nor does it have a Preferred Alternative among the pathways analyzed for providing the capability to disassemble surplus pits and convert the plutonium from pits to a form suitable for disposition.

Preferred Alternative for Non-Pit Plutonium

DOE/NNSA's Preferred Alternative with regard to the disposition of 6 MT of surplus non-pit plutonium is to prepare this plutonium for eventual disposal at WIPP in Carlsbad, New Mexico, a geologic repository for disposal of TRU waste generated by atomic energy defense activities. This would allow the DOE/NNSA to continue progress on the disposition of surplus weapon usable plutonium in furtherance of the policies of the United States to ensure that surplus plutonium is never used in a nuclear weapon, and to remove surplus plutonium from the State of South Carolina. Surplus non-pit plutonium would be prepared and packaged at the Savannah River Site (SRS) using H-Canyon/HB-line and/or K-Area facilities to meet the WIPP waste acceptance criteria and all other applicable regulatory requirements and would be temporarily stored in E-Area at SRS until shipped. Shipments of this surplus plutonium to WIPP would not commence until WIPP is fully operational, and would be placed in the appropriate place in any queue of material to be shipped to WIPP.

DOE/NNSA may issue a ROD containing its plan for disposition of the 6 MT of surplus non-pit plutonium analyzed in Final SPD Supplemental EIS no sooner than 30 days from the date of publication of this notice in the Federal Register.

Issued at Washington, DC on December 18, 2015.
Frank G. Klotz,
Administrator, National Nuclear Security Administration.

[FR Doc. 2015-32440 Filed 12-23-15; 8:45 am]

BILLING CODE 6450-01-P